NATIONAL SCIENCE FOUNDATION

Advisory Committee for Engineering; Notice of Meeting

In accordance with Federal Advisory Committee Act (Pub. L. 92-463, as amended), the National Science Foundation announces the following meeting:

Name: Advisory Committee for engineering (1170).

Date/Time: November 8, 2005, 8 a.m.-5 p.m.; November 9, 2005, 8 a.m.-1 p.m.

Place: National Science Foundation, Room 375.

Type of Meeting: Open.

Contact Person: Deborah Young, Administrative Officer, and Office of the Assistant Director for engineering, 703-292-8301.

Purpose of Meeting: To provide advice, recommendations and counsel on major goals and policies pertaining to engineering programs and activities.

Agenda: The principal focus of the forthcoming meeting will be on strategic issues, both for the Directorate and the Foundation as a whole. The Committee will also address matters relating to the future of the engineering profession and engineering education.

Dated: October 4, 2005.
Susanne Bolton,
Committee Management Officer.

[FR Doc. 05-20259 Filed 10-6-05; 8:45 am]

BILLING CODE 9555-01-M